DEPARTMENT OF DEFENSE

Department of the Army

Notice of Availability of a Novel Conformal and Flexible Imaging Technology for Exclusive, Partially Exclusive or Non-Exclusive Licenses

AGENCY: Department of the Army, DoD.

ACTION: Notice of availability.

SUMMARY: The Department of the Army announces the general availability of exclusive, partially exclusive or non-exclusive licenses relative to a novel conformal and flexible imaging technology as described in U.S. Patent No. 6,580,413; entitled “Method and Apparatus for the Low Cost Formation and Control of Images on Conformal Materials” issued June 17, 2003. Any license shall comply with 35 U.S.C. 209 and 37 CFR 404.

FOR FURTHER INFORMATION CONTACT: Michael D. Rausa, U.S. Army Research Laboratory, Office of Research and Technology Applications, Attn: AMSRL-DP-T/Bldg. 459, Aberdeen Proving Ground, MD 21005-5425, Telephone: (410) 278-5028.

Luz D. Ortiz,
Army Federal Register Liaison Officer.

[FR Doc. 03-31336 Filed 12-18-03; 8:45 am]

BILLING CODE 3710-08-M